DEPARTMENT OF AGRICULTURE

Office of the Secretary

7 CFR Part 20

RIN 0551-AA51

Export Sales Reporting Requirements

AGENCY: Office of the Secretary, USDA.

ACTION: Delay of the effective date.

SUMMARY: On July 25, 2001, USDA published a final rule in the Federal Register (66 FR 38526-38528) amending the Export Sales Reporting Requirements Regulation (7 CFR part 20) to add fresh, chilled, or frozen muscle cuts of beef to such regulation, effective August 24, 2001. At that time, USDA believed the current reporting system used for all other agricultural commodities covered by the regulation would require only minor modifications to accommodate beef reporting. The desired changes, however, are more extensive than originally anticipated, and USDA is not fully prepared to begin accepting and reporting export sales of beef. The delay of the effective date would provide USDA the additional time needed to modify and test its reporting system and develop detailed reporting instructions for the reporting entities. This notice advises the public the effective date of the final rule will be delayed.

DATES: The effective date of the amendment to 7 CFR part 20 published at 66 FR 38526-38528 has been delayed to January 11, 2002.

For Further Information Contact: Denise Huttenlocker, Director, Marketing Operations Staff, Foreign Agricultural Service, 1400 Independence Avenue SW., Stop 1042, U.S. Department of Agriculture, Washington, DC 20250-1021, or telephone at 202-720-4327, or e-mail at HuttenlockerD@fas.usda.gov.

Signed at Washington, DC on August 21, 2001.
Mattie R. Sharpless,
Acting Administrator, Foreign Agricultural Service.

[FR Doc. 01-21422 Filed 8-22-01; 8:45 am]

BILLING CODE 3410-10-P